DEPARTMENT OF HEALTH AND HUMAN SERVICES

National Institutes of Health

National Heart, Lung, and Blood Institute; Notice of Meetings

Notice is hereby given of a change in the meeting of the National Heart, Lung, and Blood Advisory Council, September 13, 2022, 09:00 a.m. to September 13, 2022, 05:00 p.m., National Institutes of Health, Rockledge I, 6705 Rockledge Drive, Bethesda, MD 20892 which was published in the Federal Register on August 22, 2022, 87 FRN 51436.

This notice is being amended to remove the visitor testing requirement for entering NIH facilities due to CDC updates published August 11, 2022, regarding screening testing. The meeting is open to the public.

Dated: August 24, 2022.
David W. Freeman,
Program Analyst, Office of Federal Advisory Committee Policy.

[FR Doc. 2022-18649 Filed 8-29-22; 8:45 am]

BILLING CODE 4140-01-P